DEPARTMENT OF THE INTERIOR

Bureau of Indian Affairs

Advisory Board for Exceptional Children

AGENCY: Bureau of Indian Affairs, Interior.

ACTION: Notice of Meeting.

SUMMARY: The Bureau of Indian Education (BIE) is announcing that the Advisory Board for Exceptional Children (Advisory Board) will hold its next meeting in Albuquerque, New Mexico. The purpose of the meeting is to meet the mandates of the Individuals with Disabilities Education Act of 2004 (IDEA) for Indian children with disabilities.

DATES: The Advisory Board will meet on Sunday, June 3, 2012, from 8:30 a.m. to 4:30 p.m. and Monday, June 4, 2012, from 8:30 a.m. to 4:30 p.m. Mountain Time.

ADDRESSES: The meeting will be held at the Hyatt Place Albuquerque/Uptown, 6901 Arvada Avenue North East, Albuquerque, New Mexico; telephone number (505) 872-9000.

FOR FURTHER INFORMATION CONTACT: Sue Bement, Designated Federal Officer, Bureau of Indian Education, Albuquerque Service Center, Division of Performance and Accountability, 1011 Indian School Road NW., Suite 332, Albuquerque, NM 87104; telephone number (505) 563-5274.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary—Indian Affairs, on the needs of Indian children with disabilities. The meetings are open to the public.

The following items will be on the agenda:

• Report from Supervisory Education Specialist, Special Education, BIE, Division of Performance and Accountability

• Report from BIE Director's Office

• Updates from the BIE, Division of Performance and Accountability

• Group work on Priority Topics

• Public Comment (via conference call, June 4, 2012, meeting only*)

• BIE Advisory Board-Advice and Recommendations

* During the June 4, 2012, meeting, time has been set aside for public comment via conference call from 1:30-2:00 p.m. Mountain Time. The call-in information is: Conference Number 1-888-417-0376, Passcode 1509140.

New Members:

• Dr. Jonathon Stout, Board Chair

• Dr. Marilyn Johnson

• Paula Seanez

• Luvette Russell

• Beth Ann Tepper

• Dr. Billie Jo Kipp

• Dr. Rosemarie Dugi

• Rozalyn Hoff, Alternate

• Morgan James Peters, Alternate

Dated: May 7, 2012.
Donald E. Laverdure,
Acting Assistant Secretary—Indian Affairs.

[FR Doc. 2012-11886 Filed 5-15-12; 8:45 am]

BILLING CODE 4310-6W-P